NATIONAL AERONAUTICS AND SPACE ADMINISTRATION

[Notice: (03-162)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted by February 28, 2004.

ADDRESSES: All comments should be addressed to Ms. Celeste Dalton, Code HK, National Aeronautics and Space Administration, Washington, DC 20546-0001.

FOR FURTHER INFORMATION CONTACT: Requests for additional information or copies of the information collection instrument(s) and instructions should be directed to Ms. Nancy Kaplan, NASA Reports Officer, NASA Headquarters, 300 E Street SW, Code AO, Washington, DC 20546, (202) 358-1372.

SUPPLEMENTARY INFORMATION:

I. Abstract

The National Aeronautics and Space Administration (NASA) plans to renew an ongoing collection designed to collect information needed to evaluate bids and proposals submitted to NASA for the award of contracts with a value less than $500,000 for goods and services in support of NASA's mission, and in response to contractual requirements. Solicitations for bids and proposals, and requirements for contract deliverables, are prepared in accordance with the OFPP Policy Act as amended by Pub. L. 96-83, the NASA Space Act, 42 U.S.C. et seq., and approved mission requirements. As the need arises for goods and services, NASA follows the procedures set forth in Parts 14 and 15 of the FAR for the issuance of Invitation for Bids (IFBs) and Request for Proposals (RFPs) before a contract can be awarded. Similarly, in bids and proposals voluntarily submitted in response to IFBs and RFPs, contractors must furnish all information required by the FAR, the NFS, and Agency needs. This solicited information is used by NASA project and procurement managers to determine the responsiveness of bids and proposals and come to a decision on which contractor can provide the greatest benefit to the Agency and, ultimately, who will be awarded a contract.

II. Method of Collection

NASA collects this information electronically where feasible, but information may also be collected by mail or fax.

III. Data

Title: NASA Acquisition Process: Bids and Proposals for Contracts With an Estimated Value Less than $500,000.

OMB Number: 2700-0087.

Type of review: Extension of a currently approved collection.

Affected Public: Business or other for-profit; Not-for-profit institutions; State, local, or tribal governments.

Estimated Number of Respondents: 7,900.

Estimated Time Per Response: Varies, depending on type of response. Bids take an average of 250 hours per response. Proposals take an average of 400 hours per response.

Estimated Total Annual Burden Hours: 2,560,000.

Estimated Total Annual Cost: $0.

IV. Request for Comments

Comments are invited on: (1) Whether the proposed collection of information is necessary for the proper performance of the functions of the agency, including whether the information collected has practical utility; (2) the accuracy of the agency's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Dated: December 17, 2003.
Patricia L. Dunnington,
Chief Information Officer, Office of the Administrator.

[FR Doc. 03-32011 Filed 12-29-03; 8:45 am]

BILLING CODE 7510-01-P